INTERNATIONAL TRADE COMMISSION

[Inv. No. 337-TA-1332]

Certain Semiconductors and Devices and Products Containing the Same, Including Printed Circuit Boards, Automotive Parts, and Automobiles; Notice of a Commission Determination Not To Review an Initial Determination Terminating the Investigation in Its Entirety Based on Withdrawal of the Complaint

AGENCY: U.S. International Trade Commission.

ACTION: Notice.

SUMMARY: Notice is hereby given that the U.S. International Trade Commission has determined not to review the presiding administrative law judge's (“ALJ”) initial determination (“ID”) (Order No. 16), granting complainant's motion to terminate the investigation based on withdrawal of the complaint as to all respondents. The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on October 14, 2022, based on a complaint filed on behalf of Daedalus Prime LLC of Bronxville, NY (“Complainant”). 87 FR 62454 (Oct. 14, 2022).¹ The complaint, as supplemented, alleged violations of section 337 of the Tariff Act of 1930, as amended, 19 U.S.C. 1337, based upon the importation into the United States, the sale for importation, and the sale within the United States after importation of certain semiconductors and devices and products containing the same, including printed circuit boards, automotive parts, and automobiles by reason of infringement of one or more of claims 1-18 of U.S. Patent No. 8,775,833 (“the '833 patent”); claims 1-18 of U.S. Patent No. 8,898,494 (“the '494 patent”); claims 1-17 of the '895 patent; claims 1-24 of U.S. Patent No. 10,049,080 (“the '080 patent”); claims 1-19 of U.S. Patent No. 10,394,300 (“the '300 patent”); and claims 1-20 of U.S. Patent No. 10,705,588 (“the '588 patent”). Id. at 62454-55. The complaint further alleged that an industry in the United States exists. Id. The notice of investigation named as respondents: Avnet, Inc. of Phoenix, AZ; Digi-Key Electronics of Thief River Falls, MN; Mercedes-Benz Group AG and Mercedes-Benz AG, both of Germany; Mercedes-Benz USA, LLC of Sandy Springs, GA; Mouser Electronics, Inc. of Mansfield, TX; Newark of Chicago, IL; NXP Semiconductors N.V. of Netherlands; and NXP USA, Inc. of Austin, TX (collectively, “Respondents”). Id. at 62455. The Office of Unfair Import Investigations (“OUII”) is also participating in this investigation. Id.

¹ A Corrected Notice of Institution was published on November 2, 2022. 87 FR 66208 (Nov. 2, 2022). The Corrected Notice of Institution omits the determination on whether an industry “is in the process of being established” from the investigation. Id. at 66209.

Claims 6, 8, 10, 16, and 17 of the '300 patent, claims 6, 11, and 12 of the '833 patent, claims 8-12 and 16 of the '494 patent, claims 2, 4-5, 12-13, and 20 of the '588 patent, claims 9-16, 21, and 22 of the '080 patent, and all asserted claims of the '895 patent have been terminated from the investigation. See Order No. 11 (Dec. 13, 2022), unreviewed by Comm'n Notice (Jan. 11, 2023); Order No. 13 (Jan. 3, 2023), unreviewed by Comm'n Notice (Jan. 30, 2023).

On January 20, 2023, Complainant filed a motion to withdraw the complaint as to all Respondents. Respondents did not oppose the motion and OUII filed a response supporting the motion.

On January 30, 2023, the ALJ issued the subject ID (Order No. 16), granting Complainant's motion to terminate the investigation in its entirety based on withdrawal of the complaint. The ID found that the motion complies with Commission Rule 210.21(a)(1), 19 CFR 210.21(a)(1), and there are no extraordinary circumstances preventing termination of the investigation. See ID at 2. No petition for review of the ID was filed.

The Commission has determined not to review the subject ID. The investigation is terminated in its entirety.

The Commission vote for this determination took place on February 24, 2023.

The authority for the Commission's determination is contained in section 337 of the Tariff Act of 1930, as amended, 19 U.S.C. 1337, and in Part 210 of the Commission's Rules of Practice and Procedure, 19 CFR part 210.

By order of the Commission.
Issued: February 27, 2023.
Katherine M. Hiner,
Supervisory Attorney.

[FR Doc. 2023-04355 Filed 3-2-23; 8:45 am]

BILLING CODE 7020-02-P